FEDERAL RETIREMENT THRIFT INVESTMENT BOARD

Notice of Board Meeting

DATES: February 28, 2023 at 10:00 a.m.

ADDRESSES: Telephonic. Dial-in (listen only) information: Number: 1-202-599-1426, Code: 800 699 968#; or via web: https://teams.microsoft.com/l/meetup-join/19%3ameeting_YjQxNDZmZjgtNjczYy00OGMyLTlkN2MtYzFlYTY5ZWQ0YWM3%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION: Board Meeting Agenda.

Open Session

1. Approval of the January 24, 2023 Board Meeting Minutes

2. Investment Manager Annual Service Review (State Street Global Advisors)

3. Recordkeeper Service Review (Accenture Federal Services)

4. Monthly Reports

(a) Participant Activity Report

(b) Investment Performance

(c) Legislative Report

5. Quarterly Reports

(d) Metrics

Authority: 5 U.S.C. 552b(e)(1).

Dated: February 15, 2023.
Dharmesh Vashee,
General Counsel, Federal Retirement Thrift Investment Board.

[FR Doc. 2023-03502 Filed 2-17-23; 8:45 am]

BILLING CODE 6760-01-P